DEPARTMENT OF HEALTH AND HUMAN SERVICES

National Institutes of Health

Center for Scientific Review; Amended Notice of Meeting

Notice is hereby given of a change in the meeting of the Center for Scientific Review Special Emphasis Panel, June 14, 2007, 8 a.m. to June 15, 2007, 5 p.m., Churchill Hotel, 1914 Connecticut Avenue, NW., Washington, DC 20009 which was published in the Federal Register on April 24, 2007, 72 FR 20352-20354.

The meeting will be held at The Watergate Hotel, 2650 Virginia Avenue, NW., Washington, DC 20037. The meeting dates and time remain the same. The meeting is closed to the public.

Dated: April 26, 2007.
Jennifer Spaeth,
Director, Office of Federal Advisory Committee Policy.

[FR Doc. 07-2188 Filed 5-3-07; 8:45 am]

BILLING CODE 4140-01-M